DEPARTMENT OF EDUCATION

Notice Of Proposed Information Collection Requests

AGENCY: Department of Education.

ACTION: Notice of Proposed Information Collection Requests.

SUMMARY: The Acting Leader, Regulatory Information Management Group, Office of the Chief Information Officer, invites comments on the proposed information collection requests as required by the Paperwork Reduction Act of 1995.

DATES: An emergency review has been requested in accordance with the Act (44 U.S.C. Chapter 3507 (j)), since public harm is reasonably likely to result if normal clearance procedures are followed. Approval by the Office of Management and Budget (OMB) has been requested by August 10, 2003. A regular clearance process is also beginning. Interested persons are invited to submit comments on or before September 15, 2003.

ADDRESSES: Written comments regarding the emergency review should be addressed to the Office of Information and Regulatory Affairs, Attention: Karen Lee, Desk Officer: Department of Education, Office of Management and Budget; 725 17th Street, NW., Room 10235, New Executive Office Building, Washington, DC 20503 or should be electronically mailed to the Internet address Karen_F._Lee@omb.eop.gov.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Acting Leader, Regulatory Information Management Group, Office of the Chief Information Officer, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on respondents, including through the use of information technology.

Dated: July 10, 2003.
Joseph Schubart,
Acting Leader, Regulatory Information Management Group, Office of the Chief Information Officer.

Office of Elementary and Secondary Education

Type of Review: New.

Title: Mathematics and Science Partnerships—Basic State Educational Agency Information.

Abstract: Given the size of the program's fiscal year 2003 appropriation, the Mathematics and Science Partnerships program (Title II, part B of the Elementary and Secondary Education Act, as amended by the No Child Left Behind Act of 2002 (Public Law 107-110) becomes a State educational agency (SEA)-administered formula grant program. Section 2202 of the ESEA has the Department make awards to SEAs without allowance for its review and approval of a program application. This State Survey contains minimum information that the Department needs in order to (1) Be able to provide technical assistance to SEAs as they begin implementing their programs, and (2) monitor programs effectively.

Additional Information: The Department is requesting emergency processing for the State Survey for the new Mathematics and Science Partnerships Program (Title II, part B of the Elementary and Secondary Education Act, as amended by the No Child Left Behind Act) due to an unanticipated event. The FY 2003 appropriation for this program is slightly more than $100 million, and the program is now a SEA—administered formula grant program. The awarding of funds to SEAs is based on statutory formula. Normal processing for this collection would likely delay approval for the State Survey this year. The Department quite simply needs the basis information our State Survey requests much sooner if we are to meet our responsibilities to provide technical assistance as SEAs begin to administer this new and important program, and to be able to monitor its implementation.

Frequency: Annually.

Affected Public: Individuals or households; Businesses or other for-profit; Not-for-profit institutions; Farms; Federal Government; State, local or Tribal Gov't, SEAs or LEAs.

Reporting and Recordkeeping Hour Burden:

Responses: 780.

Burden Hours: 31,200.

Requests for copies of the proposed information collection request may be accessed from http://www.edicsweb.ed.gov, by selecting the “Browse Pending Collections” link and by clicking on link number 2275. When you access the information collection, click on “Download Attachments” to view. Written requests for information should be addressed to Vivian Reese, Department of Education, 400 Maryland Avenue, SW., Room 4050, Regional Office Building 3, Washington, DC 20202-4651 or to the e-mail address vivan.reese@ed.gov. Requests may also be electronically mailed to the Internet address OCIO_RIMG@ed.gov or faxed to 202-708-9346. Please specify the complete title of the information collection when making your request.

Comments regarding burden and/or the collection activity requirements, contact Kathy Axt at her e-mail address Kathy.Axt@ed.gov. Individuals who use a telecommunications device for the deaf (TDD) may call the Federal Information Relay Service (FIRS) at 1-800-877-8339.

[FR Doc. 03-17915 Filed 7-15-03; 8:45 am]

BILLING CODE 4000-1-P